DEPARTMENT OF THE INTERIOR

National Park Service

Continuation of Visitor Services

AGENCY: National Park Service, Interior.

ACTION: Public notice.

SUMMARY: Pursuant to 36 CFR 51.23, public notice is hereby given that the National Park Service proposes to extend the following expiring concession contracts for a period of up to 1 year, or until such time as a new contract is executed, whichever occurs sooner.

SUPPLEMENTARY INFORMATION: The listed concession authorizations will expire by their terms on or before December 31, 2004. The National Park Service has determined that the proposed short-term extensions are necessary in order to avoid interruption of visitor services and has taken all reasonable and appropriate steps to consider alternatives to avoid such interruption. These extensions will allow the National Park Service to complete and issue a prospectus leading to the competitive selection of a concessioner for a new long-term concession contract covering these operations.

Conc ID No. | Concessioner name | Park
CACH001 | White Dove, Inc. | Canyon de Chelly NM.
CANY001 | Adventure Bound, Inc. | Canyonlands NP.
CANY002 | Abercrombie and Kent American Adventures, LTD | Canyonlands NP.
CANY003 | Navtec Expeditions | Canyonlands NP.
CANY004 | Outward bound Wilderness, Inc. (Outward Bound West) | Canyonlands NP.
CANY005 | Colorado River and Trails Expeditions, Inc. | Canyonlands NP.
CANY006 | Don Hatch River Expeditions, Inc. | Canyonlands NP.
CANY007 | Holiday River Expeditions, Inc. | Canyonlands NP.
CANY009 | Moki Mac River Expeditions, Inc. | Canyonlands NP.
CANY010 | Oars Canyonlands, Inc. | Canyonlands NP.
CANY011 | Western River Expeditions, Inc. (Adventure River Expeditions, Inc.) | Canyonlands NP.
CANY012 | Niskanen & Jones, Inc. (San Juan Expeditions) | Canyonlands NP.
CANY014 | Niskanen & Jones, Inc. (Tag-A-Long Expeditions) | Canyonlands NP.
CANY015 | Holiday River Expeditions, Inc. | Canyonlands NP.
CANY016 | Tour West, Inc. | Canyonlands NP.
CANY017 | Western River Expeditions, Inc. | Canyonlands NP.
CANY018 | American Wilderness Expeditions, Inc. (Adrift Adventures of Canyonlands) | Canyonlands NP.
CANY019 | Niskanen & Jones, Inc. (Tag-A-Long Expeditions) | Canyonlands NP.
CANY020 | World Wide River Expeditions, Inc. | Canyonlands NP.
GRCA002 | North Rim, Xanterra Parks and Resorts | Grand Canyon NP.
GRTE001 | Grand Teton Lodge Company | Grand Teton NP.
YELL004 | Yellowstone Park Service Station | Yellowstone NP.

DATES: Effective Date: January 2, 2005.

FOR FURTHER INFORMATION CONTACT: Jo A. Pendry, Concession Program Manager, National Park Service, Washington, DC, 20240, Telephone (202) 513-7156.

Alfred J. Poole, III,
Acting Associate Director, Administration, Business Practices and Workforce Development.

[FR Doc. 05-3331 Filed 2-18-05; 8:45 am]

BILLING CODE 4312-53-M